DEPARTMENT OF ENERGY

National Nuclear Security Administration

Notice of Availability of the Draft Site-Wide Environmental Impact Statement for the Y-12 National Security Complex

AGENCY: National Nuclear Security Administration, U.S. Department of Energy.

ACTION: Notice of availability and public hearings.

SUMMARY: The National Nuclear Security Administration (NNSA), a separately-organized agency within the Department of Energy (DOE), announces the availability of the Draft Site-Wide Environmental Impact Statement for the Y-12 National Security Complex (Draft Y-12 SWEIS, DOE/EIS-0387). The Draft Y-12 SWEIS analyzes the potential environmental impacts of reasonable alternatives for ongoing and foreseeable future operations, facilities, and activities at Y-12. Five alternatives are analyzed: No Action Alternative (maintain the status quo); Uranium Processing Facility (UPF) Alternative; Upgrade-in-Place Alternative; Capability-sized UPF Alternative; and No Net Production/Capability-sized UPF Alternative. DOE NNSA has prepared the Draft Y-12 SWEIS in accordance with the National Environmental Policy Act (NEPA), the Council on Environmental Quality (CEQ) regulations that implement the procedural provisions of NEPA (40 CFR Parts 1500-1508), and DOE regulations implementing NEPA (10 CFR Part 1021). The CEQ regulations allow an agency to identify its preferred alternative or alternatives, if one or more exist, in a draft EIS (40 CFR 1502.14[e]). For the Draft Y-12 SWEIS, the Capability-sized UPF Alternative is the preferred alternative.

DATES: DOE NNSA invites comments on the Draft Y-12 SWEIS during the public comment period, which ends on January 4, 2010. DOE NNSA will consider comments received after this date to the extent practicable as it prepares the Final Y-12 SWEIS.

DOE NNSA will hold two public hearings on the Draft Y-12 SWEIS at the following location, dates, and times:

Oak Ridge, Tennessee, New Hope Center, 602 Scarboro Road (Corner of Scarboro Road and Second Street), Oak Ridge, Tennessee, Tuesday, November 17, 2009, 6:30 p.m.-9 p.m. and Wednesday, November 18, 2009, 10 a.m.-12:30 p.m.

ADDRESSES: Requests for additional information on the Draft Y-12 SWEIS, including requests for copies of the document, should be directed to: Ms. Pam Gorman, Y-12 SWEIS Document Manager, Y-12 Site Office, 800 Oak Ridge Turnpike, Suite A-500, Oak Ridge, TN 37830, or by Telephone: 865-576-9903. Written comments on the Draft Y-12 SWEIS should be submitted to the above address, by facsimile to 865-483-2014, or by electronic mail to y12sweis.comments@tetratech.com. Please mark correspondence “Draft Y-12 SWEIS Comments.” Additional information on the Y-12 SWEIS may be found at http://www.y12sweis.com.

For general information regarding the DOE NEPA process contact: Ms. Carol M. Borgstrom, Director, Office of NEPA Policy and Compliance, GC-20, U.S. Department of Energy, 1000 Independence Ave., SW., Washington, DC 20585, telephone 202-586-4600, or leave a message at 1-800-472-2756. Additional information regarding DOE NEPA activities and access to many of DOE's NEPA documents are available on the Internet through the DOE NEPA Web site at http://www.gc.energy.gov/nepa.

SUPPLEMENTARY INFORMATION:

Background. Y-12 is one of three primary installations on the DOE Oak Ridge Reservation in Oak Ridge, Tennessee. The other installations are the Oak Ridge National Laboratory and the East Tennessee Technology Park (formerly the Oak Ridge K-25 Site). Construction of Y-12 started in 1943 as part of the World War II Manhattan Project. The early missions of the site included the separation of uranium-235 from natural uranium by the electromagnetic separation process and the manufacture of nuclear weapons components from uranium and lithium. Today, as one of the DOE NNSA major production facilities, Y-12 is the primary site for enriched uranium processing and storage, and one of the primary manufacturing facilities for maintaining the U.S. nuclear weapons stockpile. Y-12 is unique in that it is the only source of secondaries, cases, and other nuclear weapons components within the DOE NNSA nuclear security enterprise. Y-12 also dismantles weapons components, safely and securely stores and manages special nuclear material (SNM), supplies SNM for use in naval and research reactors, and dispositions surplus materials. Y-12 nuclear nonproliferation programs play a critical role in securing our nation and the globe and combating the spread of weapons of mass destruction by removing, securing, and dispositioning SNM.

In the mid-1990s, DOE prepared several programmatic environmental impact statements (PEISs) to inform decisionmakers and the public on the potential environmental impacts of alternatives for carrying out its national security missions. DOE then made a number of decisions related to the nuclear security enterprise operations at Y-12 and the long-term storage and disposition of fissile material. Specifically, DOE decided that the mission of Y-12 would not change, and that Y-12 would continue to maintain the capability and capacity to fabricate nuclear weapons secondaries, cases, and limited-life components in support of the nuclear weapons stockpile, and store/process non-surplus, highly enriched uranium (HEU) long-term, and store surplus HEU pending disposition.

Most recently, DOE NNSA prepared the Complex Transformation Supplemental PEIS (SPEIS) (DOE/EIS-0236-S4) to analyze potential environmental impacts of alternatives for transforming the nuclear weapons complex into a smaller, more efficient enterprise. In the record of decision (ROD) for that SPEIS, DOE NNSA affirmed that manufacturing and research and development (R&D) involving uranium will remain at Y-12 (73 FR 77644, December 19, 2008). DOE NNSA also announced that it will construct and operate a UPF at Y-12 as a replacement for existing facilities that are more than 50 years old and face significant safety and maintenance challenges to their continued operation. The DOE NNSA committed to evaluating the site-specific potential environmental impacts associated with continued production operations at Y-12 in this SWEIS, including those related to construction and operation of a UPF.

The continued operation of Y-12 is critical to DOE NNSA's Stockpile Stewardship Program and to preventing the spread and use of nuclear weapons worldwide. However, continued operation of Y-12 is made more difficult by the fact that most of the facilities at Y-12 are old, oversized, and inefficient. Continued long-term reliance on World War II-era facilities originally designed for other purposes, and on support facilities built in some cases to be temporary, would not meet DOE NNSA's objectives to transform its Y-12 infrastructure into one that is more responsive to future national security needs, less costly and more efficient to operate, and improve the level of security and safeguards necessary for future activities. Over time, nearly all Y-12 facilities will need to be replaced with structures designed for their intended present-day use. Modernizing this old, over-sized, and inefficient infrastructure is a key strategic goal of DOE NNSA and is consistent with strategic planning initiatives and prior programmatic NEPA documents.

In this SWEIS, DOE NNSA is considering alternatives that would support decisions for the modernization of Y-12, and implement the Complex Transformation SPEIS decisions. These Y-12 modernization alternatives would: (1) Improve the level of security and safeguards; (2) replace/upgrade end-of-life facilities and ensure a reliable enriched uranium processing capability to meet the mission of DOE NNSA; (3) improve efficiency of operations and reduce operating costs by consolidating and modernizing equipment and operation; (4) reduce the size of the Protected Area by 90 percent and reduce the operational cost necessary to meet the security requirements; (5) improve worker protection with an emphasis on incorporating engineered controls; and (6) comply with modern building codes and environment, safety, and health standards.

DOE NNSA conducted a public scoping process that began with the publication of a Notice of Intent (NOI) in the Federal Register on November 28, 2005 (70 FR 71270), in which DOE NNSA announced its intention to prepare a SWEIS and invited public comment on the scope of the NEPA review. The NOI also announced the schedule for public scoping meetings that were held on December 15, 2005, in Oak Ridge, Tennessee. In addition to the meetings, the public was encouraged to provide comments via mail, e-mail, and fax. All comments received during the public scoping period were considered by DOE NNSA in preparing the Draft Y-12 SWEIS. DOE's development and analysis of alternatives for the Draft Y-12 SWEIS reflect consideration of these comments.

DOE NNSA had originally planned to issue the Draft Y-12 SWEIS in late 2006; however, in October 2006, DOE NNSA decided to prepare the Complex Transformation SPEIS. As a result, DOE NNSA decided to delay the Draft Y-12 SWEIS until programmatic decisions on the Complex Transformation SPEIS were made.

Alternatives. The Y-12 SWEIS assesses the following five alternatives:

No Action Alternative. The No Action Alternative reflects the current nuclear weapons program missions at Y-12 and includes the manufacture and assembly/disassembly of weapons components, the continued processing and storage of enriched uranium materials, disposition of excess materials, and the continued removal of excess buildings and infrastructure. Under the No Action Alternative, DOE NNSA would consolidate the storage of enriched uranium into the Highly Enriched Uranium Materials Facility (HEUMF). The No Action Alternative includes continued operations related to other national security programs, such as nonproliferation, the Global Threat Reduction Initiative, and support to the Naval Reactors program. Additionally, there are many non-DOE NNSA activities at Y-12 that would also continue under this alternative. Under the No Action Alternative, DOE NNSA would make only those repairs and improvements to existing HEU processing facilities necessary to maintain existing levels of operation and to support essential worker safety and health requirements. Construction of a UPF and Complex Command Center (CCC) would not occur under the No Action Alternative.

Uranium Processing Facility (UPF) Alternative. Under this alternative, DOE NNSA would continue the No Action Alternative, and construct and operate a UPF and CCC. The UPF (388,000 square feet) would consolidate existing enriched uranium operations from multiple facilities into an integrated manufacturing operation. Under this alternative, the UPF would be sited adjacent to the HEUMF to allow the two facilities to function as one integrated HEU complex. Transition of the enriched uranium production operations to the UPF and transition of enriched uranium storage operations into the HEUMF would enable the creation of a new high-security area 90 percent smaller than the current high security protected area. The CCC would house equipment and personnel for emergency operations.

Upgrade-in-Place Alternative. Under this alternative, DOE NNSA would continue the No Action Alternative and upgrade the existing HEU and non-nuclear processing facilities to contemporary environmental, safety, and security standards to the extent possible within the limitations of the existing structures and without prolonged interruptions of manufacturing operations. Under this alternative there would be no UPF and parts of the current high-security area would not be downsized. Although existing production facilities would be modernized, it would not be possible to attain the combined level of safety, security and efficiency made possible by the UPF Alternative. Although an upgrade of existing facilities was not selected in the Complex Transformation SPEIS ROD, the Upgrade-in-Place Alternative is included as a reasonable alternative because it would correct to the extent possible within the limitations of the existing structures facility deficiencies associated with the existing enriched uranium and non-nuclear processing facilities, and could potentially require smaller upfront capital expenditures than the construction of a UPF. The construction of the CCC would also take place under this alternative.

Capability-Sized UPF Alternative. Under this alternative, DOE NNSA would continue the No Action Alternative but would reduce the capacity of enriched uranium operations. DOE NNSA would maintain a basic manufacturing capability to conduct surveillance and produce and dismantle secondaries and cases. To support this alternative, DOE NNSA would build a smaller UPF (350,000 square feet) compared to the UPF described under the UPF Alternative (388,000 square feet). A smaller UPF would maintain all capabilities for fabricating secondaries and cases, and capabilities for planned dismantlement, surveillance and uranium work for other DOE NNSA and non-DOE NNSA customers. The CCC would also be constructed under this alternative.

No Net Production/Capability-Sized UPF Alternative. Under a No Net Production/Capability-Sized UPF Alternative, DOE NNSA would maintain the capability to conduct surveillance and produce and dismantle secondaries and cases; however, under this alternative, DOE NNSA would not add new types or increased numbers of secondaries to the stockpile. This alternative would involve an even further reduction of production throughput at Y-12 compared to the Capability-Sized UPF Alternative. To support this alternative, DOE NNSA would build the smaller UPF (approximately 350,000 square feet) compared to the UPF described under the UPF Alternative (388,000 square feet). The CCC, described in Section S.1.4.2.2, would also be constructed under this alternative.

Public Hearings and Invitation to Comment. DOE NNSA will hold two public hearings on the Draft Y-12 SWEIS. The hearings will be held at the following location, dates, and times: Oak Ridge, Tennessee, New Hope Center, 602 Scarboro Road (Corner of Scarboro Road and Second Street), Oak Ridge, Tennessee, Tuesday, November 17, 2009, 6:30 p.m.-9 p.m. and Wednesday, November 18, 2009, 10 a.m.-12:30 p.m.

Individuals who would like to present comments orally at these hearings must register upon arrival at the hearing. Speaking time will be allotted by the hearing moderator to each individual wishing to speak so as to ensure that as many people as possible have the opportunity to speak. DOE NNSA representatives will be available to discuss the Draft Y-12 SWEIS and answer questions during the first half hour of the hearing. DOE NNSA will then hold a plenary session during which representatives will explain the Draft Y-12 SWEIS and the analyses in it. Following the plenary session, the public will have an opportunity to provide oral and written comments. Oral comments from the hearings and written comments submitted during the comment period will be considered by DOE NNSA in preparing the Final Y-12 SWEIS.

The Draft Y-12 SWEIS and additional information regarding Y-12 are available on the Internet at http://www.Y12.doe.gov and http://www.Y12sweis.com. The Draft Y-12 SWEIS and references are available for review by the public at the DOE Reading Rooms listed below:

U.S. Department of Energy, FOIA/Privacy Act Group, 1000 Independence Avenue, SW., Washington, DC 20585, Phone: (202) 586-3142.

Paducah Gaseous Diffusion Plant, Department of Energy, Environmental Information Center and Reading Room, 115 Memorial Drive, Barkley Centre, Paducah, Kentucky 42001, Phone: (270) 554-6979.

Oak Ridge Operations Office, DOE Oak Ridge Information Center, 475 Oak Ridge Turnpike, Oak Ridge, Tennessee 37830, Phone: (865) 241-4780 or (toll-free) 1 (800) 382-6938, option 6.

Portsmouth Gaseous Diffusion Plant, Department of Energy, Environmental Information Center, 1862 Shyville Rd., Room 220, Piketon, Ohio 45661.

Following the end of the public comment period on the Draft SWEIS described above, the DOE NNSA will consider and respond to the comments received, and issue the Final Y-12 SWEIS. The DOE NNSA will consider the environmental impact analysis presented in the Final Y-12 SWEIS, along with other information, in making its decisions related to operations at Y-12.

Signed in Washington, DC, on October 22, 2009.
Thomas P. D'Agostino,
Administrator, National Nuclear Security Administration.

[FR Doc. E9-26207 Filed 10-29-09; 8:45 am]

BILLING CODE 6450-01-P